DEPARTMENT OF COMMERCE

National Oceanic and Atmospheric Administration

[RTID 0648-XC982]

Magnuson-Stevens Act Provisions; General Provisions for Domestic Fisheries; Coastal Pelagic Species Fishery; Applications for Exempted Fishing Permits; 2023-2024 Fishing Year

AGENCY: National Marine Fisheries Service (NMFS), National Oceanic and Atmospheric Administration (NOAA), Commerce.

ACTION: Notice of receipt of application; request for comments.

SUMMARY: The Regional Administrator, West Coast Region, NMFS, has made a preliminary determination that two Exempted Fishing Permit (EFP) applications warrant further consideration. Both applications are from the California Wetfish Producers Association and request an exemption from the expected prohibition on primary directed fishing for Pacific sardine during the 2023-2024 fishing year to collect Pacific sardine as part of industry-based scientific research. NMFS requests public comment on the applications.

DATES: Comments must be received by June 20, 2023.

ADDRESSES: You may submit comments on this document, identified by NOAA-NMFS-2023-0069, by the following method:

• Electronic Submissions: Submit all public comments via the Federal e-Rulemaking Portal. Go to www.regulations.gov and enter NOAA-NMFS-2023-0069 in the Search box. Click the “Comment” icon, complete the required fields, and enter or attach your comments. The EFP applications will be available under Supporting and Related Materials through the same link.

Instructions: Comments sent by any other method or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Taylor Debevec, West Coast Region, NMFS, (562) 980-4066, taylor.debevec@noaa.gov.

SUPPLEMENTARY INFORMATION: This action is authorized by the Coastal Pelagic Species (CPS) Fishery Management Plan (FMP) and regulations at 50 CFR 600.745, which allow NMFS Regional Administrators to authorize exempted fishing permits (EFPs) for fishing activities that would otherwise be prohibited.

At its April 2023 meeting, the Pacific Fishery Management Council (Council) recommended that NMFS approve two EFP applications for the 2023-2024 Pacific sardine fishing year. Both applications are from the California Wetfish Producers Association (CWPA) and are renewal requests for an exemption from the expected prohibition on primary directed fishing for Pacific sardine during the 2023-2024 fishing year; the purpose of the requests are to collect Pacific sardine as part of industry-based scientific research. The Council considered these EFP applications concurrently with the 2023-2024 annual harvest specifications for Pacific sardine because Pacific sardine catch under each EFP would be accounted for under the proposed 2023-2024 annual catch limit (ACL), which is 3,953 metric tons (mt). A summary of each EFP application is provided below:

(1) Proposal for renewal of exempted fishery permit (EFP) to allow take of Pacific sardine (for point sets) in 2023-24 nearshore research program: The CWPA submitted a renewal application for their CPS Nearshore Cooperative Survey (NCS) program. The purpose of this EFP project is to continue to develop sampling methodology for estimating CPS biomass in shallow waters that are not accessible to NOAA survey ships. Since 2012, the California Department of Fish and Wildlife, in partnership with the CWPA, has been conducting aerial surveys to estimate the biomass and distribution of Pacific sardine and certain other CPS in nearshore waters in the Southern California Bight, and in the Monterey-San Francisco area since the summer of 2017. Currently, there is uncertainty in the biomass estimates from aerial spotter pilots. The CPS-NCS survey aims to quantify that level of uncertainty by capturing CPS schools identified by aerial spotter pilots and validating the biomass and species composition of the schools. If approved, this EFP would allow up to five participating vessels to directly harvest a total of 150 mt of Pacific sardine during the 2023-2024 fishing year. A portion of each point set (i.e., an individual haul of fish captured with a purse seine net) would be retained for biological sampling, and the remainder would be sold by participating fishermen and processors to offset research costs and avoid unnecessary discard.

(2) Request for renewal of exempted fishery permit (EFP) to allow fishing of Pacific sardine for biological samples in 2023-24 nearshore research program: The CWPA submitted a renewal application for their biological sampling EFP project. The primary directed fishery for Pacific sardine has been closed since 2015, and consequently, scientists at the Southwest Fisheries Science Center (Science Center) have a limited amount of fishery-dependent data to use in their stock assessment. The goal of this EFP project is to provide fishery-dependent catch data, including biological data (i.e., age and length data from directed harvest), for potential use in Pacific sardine stock assessments. An additional goal for this year is to collaborate with the Science Center in a research project designed to enhance understanding of stock structure by collecting year-round data. If approved, this EFP would allow up to five participating vessels to directly harvest up to 520 mt of Pacific sardine during the 2023-2024 fishing year. A portion of each landing would be retained for biological sampling by the California Department of Fish and Wildlife, and the remainder would be sold by participating fishermen and processors to offset research costs and avoid unnecessary discard.

Altogether, these EFP projects total 670 mt. If NMFS does not issue one or more of these EFPs, the requested tonnage would be available for harvest by other permissible fishing activities during the 2023-2024 fishing year (e.g., live bait or minor directed harvest).

After publication of this notice in the Federal Register, NMFS may approve and issue permits to participating vessels after the close of the public comment period. NMFS will consider comments submitted in deciding whether to approve the applications as requested. NMFS may approve the applications in their entirety or may make any alterations needed to achieve the goals of the EFP projects and the FMP. NMFS may also approve different amounts of Pacific sardine allocation for each EFP project if any changes are made to the 2023-2024 proposed sardine harvest specifications before final implementation.

Authority: 16 U.S.C. 1801 et seq.

Dated: May 15, 2023.
Jennifer M. Wallace,
Acting Director, Office of Sustainable Fisheries, National Marine Fisheries Service.

[FR Doc. 2023-10680 Filed 5-18-23; 8:45 am]

BILLING CODE 3510-22-P